DEPARTMENT OF LABOR

Office of Disability Employment Policy

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Office of Disability Employment Policy is soliciting comments concerning the proposed collection of needs assessment data through the National Survey of Sub-minimum Wage (14 c) Certificate Recipients. A copy of the proposed information collection request (ICR) can be obtained by contacting the office listed below in the addressee section of this notice.

DATES: Written comments must be submitted to the office listed in the ADDRESSES section below on or before November 3, 2003.

ADDRESSES: Faith S. Kirk, U.S. Department of Labor, Office of Disability Employment Policy, 200 Constitution Avenue, NW., Suite S-1303, Washington, DC 20210.

SUPPLEMENTARY INFORMATION:

I. Background

This project is a research activity of the Training and Technical Assistance for Providers (T-TAP) project. Funded by the Office of Disability and Employment Policy (ODEP) at the U.S. Department of Labor, T-TAP is a joint project of the Institute for Community Inclusion at the University of Massachusetts at Boston and Virginia Commonwealth University. The project provides a program of technical assistance and training that will be delivered and disseminated nationally to community-based providers including community rehabilitation providers and other public agencies who use the Fair Labor Standards Act (FLSA) section 14 (c) special minimum wage certificates. The overall goal of the T-TAP project is to assist community providers to increase access to regular wage employment in the competitive labor market. Collection of needs assessment data is necessary to identify barriers for organizations serving individuals with disabilities in finding integrated employment at a competitive rate.

The Cooperative Agreement's data collection component is authorized pursuant to Public Law 106-554, the Consolidated Appropriations Act of 2001, which established ODEP within the Department of Labor to bring a heightened and permanent focus for increasing the employment of persons with disabilities and to develop initiatives to “further the objective of eliminating employment barriers to the training and employment of people with disabilities.” The Consolidated Appropriations Act of 2002, pursuant to Public Law 107-116, has reauthorized this authority.

The data collected from this survey will provide descriptive information on the current use of 14 (c) Special Wage Certificates by Community Rehabilitation Programs in the United States. Specifically, the survey will look at perceived organizational barriers to achieving competitive employment outcomes for individuals with significant disabilities. This will include organizations' perceived training and resource needs related to moving their programs from 14 (c) to integrated employment outcomes. The information generated by the survey will be used by ODEP for policy analysis and subsequent policy development and recommendations. In addition, T-TAP [VCU and ICI] will use the information to design and disseminate resources and training materials as well as provide technical assistance to Community Rehabilitation Programs (CRP). Part of disseminating this information will include writing journal articles, fact sheets, online seminars and web postings, conference presentations, or other literature that can be used by ODEP, T-TAP, CRPs, organizations, and others interested in facilitating competitive employment for individuals with disabilities.

II. Review Focus

The Department of Labor is particularly interested in comments that:

• Evaluate whether the proposed collection of information is necessary for the execution of the project's mission, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses to the extent reasonable.

III. Current Actions

This is a notice to seek OMB approval of new survey instrument for the Office of Disability Employment Policy, U.S. Department of Labor.

Type of Review: New.

Agency: Office of Disability Employment Policy.

Title: National Survey of Sub-minimum Wage (14 c) Certificate Recipients.

OMB Number: 1230-NEW.

Affected Public: Non-Profit Institutions.

Purpose of Information Collection: Research and Program Planning.

Estimated Number of Respondents: 341.

Total Annual Responses: 341.

Percentages of electronic collection: 25%.

Total Annual Hours Requested: 170.5.

Costs: [in thousands of dollars].

Total Annualized Capital/Start-up $: $0.

Total Annual Costs (O&M): $0.

Frequency of Reporting: One Time.

Total Burden Cost (capital/startup): $0.

Total Burden Cost (operating/maintaining): $0.

Comments submitted in response to this comment request will be summarized and/or included in the request for Office of Management and Budget approval of the information collection request; comments will also become a matter of public record.

Dated: August 28, 2003.
John R. Davey,
Director, Office of Operations, Office of Disability Employment Policy.

[FR Doc. 03-22502 Filed 9-3-03; 8:45 am]

BILLING CODE 4510-CX-P